DEPARTMENT OF TRANSPORTATION

National Highway Traffic Safety Administration

[Docket No. NHTSA-2014-0097; Notice 1]

Notice of Receipt of Petition for Decision that Nonconforming Model Year 1991 BMW M3 Convertible Passenger Cars Are Eligible for Importation

AGENCY: National Highway Traffic Safety Administration, DOT.

ACTION: Receipt of petition.

SUMMARY: This document announces receipt by the National Highway Traffic Safety Administration (NHTSA) of a petition for a decision that nonconforming model year (MY) 1991 BMW M3 convertible passenger cars that were not originally manufactured to comply with all applicable Federal Motor Vehicle Safety Standards (FMVSS), are eligible for importation into the United States because they have safety features that comply with, or are capable of being altered to comply with, all such standards.

DATES: June 29, 2015.

ADDRESSES: Comments should refer to the docket and notice numbers above and submitted by any of the following methods:

• Federal eRulemaking Portal: Go to http://www.regulations.gov. Follow the online instructions for submitting comments.

• Mail: Send comments by mail addressed to: U.S. Department of Transportation, 1200 New Jersey Avenue SE., West Building Ground Floor, Room W12-140, Washington, DC 20590-0001.

• Hand Delivery: Deliver comments by hand to: West Building Ground Floor, Room W12-140, 1200 New Jersey Avenue SE., between 9 a.m. and 5 p.m. ET, Monday through Friday, except Federal holidays.

• Electronically: Submit comments electronically by: Logging onto the Federal Docket Management System (FDMS) Web site at http://www.regulations.gov/. Follow the online instructions for submitting comments.

Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times give above. The documents may also be viewed on the Internet at http://www.regulations.gov by following the online instructions for accessing the dockets DOT's complete Privacy Act Statement is available for review in the Federal Register published on April 11, 2000, (65 FR 19477-78)

The petition, supporting materials, and all comments received before the close of business on the closing date indicated below will be filed and will be considered. All comments and supporting materials received after the closing date will also be filed and will be considered to the extent possible. When the petition is granted or denied, notice of the decision will be published in the Federal Register pursuant to the authority indicated below.

FOR FURTHER INFORMATION CONTACT: George Stevens, Office of Vehicle Safety Compliance, NHTSA (202-366-5308).

SUPPLEMENTARY INFORMATION:

Background

Under 49 U.S.C. 30141(a)(1)(B), a motor vehicle that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

G&K Automotive Conversion, Inc. of Santa Ana, CA (Registered Importer R90-007) has petitioned NHTSA to decide whether nonconforming MY 1991 BMW M3 convertible passenger cars are eligible for importation into the United States.

G&K noted in its petition that although conforming MY 1991 BMW M3 vehicles were not sold in the U.S., NHTSA has determined that nonconforming MY 1989 BMW M3 vehicles are eligible for importation. G&K compared the nonconforming MY 1991 BMW M3 vehicles to the nonconforming MY 1989 BMW M3 vehicles that have been determined eligible for importation, and based its arguments that the 1991 BMW M3 vehicles conform to many applicable FMVSS, and are capable of being altered to meet the remainder of the applicable FMVSS, in part, on the similarities between the MY 1989 and MY 1991 vehicles.

Specifically, the petitioner claims that non-U.S. certified MY 1991 BMW M3 convertible passenger cars, as originally manufactured, conform to: Standard Nos. 102 Transmission Shift Lever Sequence, Starter Interlock, and Transmission Braking Effect; 103 Windshield Defrosting and Defogging Systems; 104 Windshield Wiping and Washing Systems; 105 Hydraulic Brake Systems; 106 Brake Hoses; 107 Reflective Surfaces; 109 New Pneumatic Tires; 113 Hood Latch System; 115 Vehicle Identification Number—Basic Requirements; 116 Motor Vehicle Brake Fluids; 118 Power-Operated Window Systems; 124 Accelerator Control Systems; 201 Occupant Protection in Interior Impact; 202 Head Restraints; 204 Steering Control Rearward Displacement; 205 Glazing Materials; 206 Door Locks and Door Retention Components; 207 Seating Systems; 209 Seat Belt Assemblies; 210 Seat Belt Assembly Anchorages; 211 Wheel Nuts, Wheel Disks, and Hub Caps; 212 Windshield Mounting; 214 Side Impact Protection; 216 Roof Crush Resistance; 219 Windshield Zone Intrusion; 301 Fuel System Integrity; and 302 Flammability of Interior Materials.

The petitioner also contends that the vehicles are capable of being altered to meet the following standards, in the manner indicated:

Standard No. 101 Controls and Displays: addition of the word “BRAKE” to the brake system warning indicator lamp located on the instrument cluster.

Standard No. 108 Lamps, Reflective Devices, and Associated Equipment: installation of U.S.-model high mounted stop lamp.

Standard No. 110 Tire Selection and Rims: installation of a tire information placard.

Standard No. 111 Rearview Mirrors: replacement of the passenger side rearview mirror with a U.S.-model component or inscription of the required warning statement on the face of that mirror.

Standard No. 114 Theft Protection: installation of a supplemental key warning buzzer, or activation of the U.S.-version software to meet the requirements of this standard.

Standard No. 208 Occupant Crash Protection: installation of a seat belt warning symbol in the dash, a U.S.-model airbag system, and U.S.-model knee bolsters.

The petitioner also states that a vehicle identification plate must be affixed to the vehicles near the left windshield post to meet the requirements of 49 CFR part 565 and that a certification label must be affixed to the driver's door jamb to meet the requirements of 49 CFR part 567.

Authority: 49 U.S.C. 30141(a)(1)(A), (a)(1)(B), and (b)(1); 49 CFR 593.7; delegation of authority at 49 CFR 1.95 and 501.8.

Issued On: May 21, 2015.
Jeffrey Giuseppe,
Director, Office of Vehicle Safety Compliance.

[FR Doc. 2015-12967 Filed 5-28-15; 8:45 am]

BILLING CODE 4910-59-P